DEPARTMENT OF STATE

[Public Notice: 11224]

Notice of Shipping Coordination Committee Meeting in Preparation for International Maritime Organization Meeting

The Department of State will conduct a public meeting of the Shipping Coordination Committee at 10:00 a.m. on Thursday, October 29, 2020, by way of teleconference. Members of the public may participate up to the capacity of the teleconference phone line, which will handle 500 participants. To access the teleconference line, participants should call (202) 475-4000 and use Participant Code: 415 533 25#.

The primary purpose of the meeting is to prepare for the 102nd session of the International Maritime Organization's (IMO) Maritime Safety Committee to be held remotely, November 4 to 11, 2020.

The agenda items to be considered include:

—Adoption of the agenda; report on credentials

—Decisions of other IMO bodies

—Consideration and adoption of amendments to mandatory instruments

—Goal-based new ship construction standards

—Human element, training and watchkeeping (report of the sixth session of the Sub-Committee)

—Implementation of IMO instruments (report of the sixth session of the Sub-Committee)

—Carriage of cargoes and containers (report of the sixth session of the Sub-Committee)

—Navigation, communications and search and rescue (report of the seventh session of the Sub-Committee)

—Ship design and construction (report of the seventh session of the Sub-Committee)

—Pollution prevention and response (matters emanating from the seventh session of the Sub-Committee)

—Ship systems and equipment (urgent matters emanating from the seventh session of the Sub-Committee)

—Any other business (only matters related to the COVID-19 pandemic)

—Consideration of the report of the Committee on its 102nd session

Please note: The Committee may, on short notice, adjust the MSC 102 agenda to accommodate the constraints associated with the virtual meeting format. Although no changes to the agenda are anticipated, if any are necessary they will be provided to those who RSVP.

Those who plan to participate may contact the meeting coordinator, LT Jessica Anderson, by email at Jessica.P.Anderson@uscg.mil, by phone at (202) 372-1376, or in writing at 2703 Martin Luther King Jr. Ave. SE, Stop 7509, Washington DC 20593-7509.

Additional information regarding this and other IMO public meetings may be found at: https://www.dco.uscg.mil/IMO.

Jeremy M. Greenwood,
Coast Guard Liaison Officer, Office of Ocean and Polar Affairs, Department of State.

[FR Doc. 2020-22078 Filed 10-5-20; 8:45 am]

BILLING CODE 4710-09-P